DEPARTMENT OF TRANSPORTATION

Federal Aviation Administration

14 CFR Part 39

[Docket No. FAA-2021-1076; Project Identifier MCAI-2021-00560-T; Amendment 39-22178; AD 2022-19-09]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for all Airbus Canada Limited Partnership Model BD-500-1A10 and BD-500-1A11 airplanes. This AD was prompted by reports of in-service findings of corrosion on the flange of the main landing gear (MLG) lower spindle pin. This AD requires repetitive inspections of the left and right MLG lower spindle pins to detect corrosion, and applicable repair or replacement if necessary, as specified in a Transport Canada Civil Aviation (TCCA) AD, which is incorporated by reference. The FAA is issuing this AD to address the unsafe condition on these products.

DATES: This AD is effective October 27, 2022.

The Director of the Federal Register approved the incorporation by reference of a certain publication listed in this AD as of October 27, 2022.

ADDRESSES: For material incorporated by reference (IBR) in this AD, contact TCCA, Transport Canada National Aircraft Certification, 159 Cleopatra Drive, Nepean, Ontario, K1A 0N5, Canada; telephone 888-663-3639; email AD-CN@tc.gc.ca; internet tc.canada.ca/en/aviation. You may view this material at the FAA, Airworthiness Products Section, Operational Safety Branch, 2200 South 216th St., Des Moines, WA. For information on the availability of this material at the FAA, call 206-231-3195. It is also available in the AD docket at regulations.gov by searching for and locating Docket No. FAA-2021-1076.

Examining the AD Docket

You may examine the AD docket at regulations.gov by searching for and locating Docket No. FAA-2021-1076; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Chirayu Gupta, Aerospace Engineer, Mechanical Systems and Administrative Services Section, FAA, New York ACO Branch, 1600 Stewart Avenue, Suite 410, Westbury, NY 11590; telephone 516-228-7300; fax 516-794-5531; email 9-avs-nyaco-cos@faa.gov.

SUPPLEMENTARY INFORMATION:

Background

The FAA issued a notice of proposed rulemaking (NPRM) to amend 14 CFR part 39 by adding an AD that would apply to all Airbus Canada Limited Partnership Model BD-500-1A10 and BD-500-1A11 airplanes. The NPRM published in the Federal Register on December 27, 2021 (86 FR 73194). The NPRM was prompted by reports of in-service findings of corrosion on the flange of the MLG lower spindle pin. The NPRM proposed to require repetitive inspections of the left and right MLG lower spindle pins to detect corrosion, and applicable repair or replacement if necessary, as specified in TCCA AD CF-2021-22, issued July 5, 2021 (TCCA CF-2021-22).

Since the NPRM was published, TCCA issued AD CF-2021-22R1, issued May 13, 2022 (TCCA AD CF-2021-22R1) (also referred to as the MCAI). TCCA AD CF-2021-22R1 revises TCCA AD CF-2021-22 by extending the calendar-based compliance time from 36 to 48 months for the initial inspection. This extended compliance time was based on submissions from the reporting requirement in TCCA AD CF-2021-22, and further analysis of the MLG lower spindle pin. The FAA concurs that the extended compliance time provides an acceptable level of safety to address the identified unsafe condition. The FAA has revised this AD to refer to TCCA AD CF-2021-22R1 as the acceptable means of compliance for accomplishing the required actions. The FAA has determined that providing notice and seeking comment on this change is unnecessary as the reduced compliance time provides relief to operators. In addition, the FAA has given credit for accomplishing actions done using TCCA AD CF-2021-22 before the effective date of this AD in paragraph (j)(1) of this AD.

The FAA is issuing this AD to address corrosion and subsequent cracking of the MLG lower spindle pin, which could result in failure of the pin, and consequent collapse of the MLG. See the MCAI for additional background information.

Discussion of Final Airworthiness Directive

Comments

The FAA received a comment from The Air Line Pilots Association, International (ALPA) who supported the NPRM without change.

The FAA received additional comments from Delta Air Lines (DAL). The following presents the comments received on the NPRM and the FAA's response to each comment.

Request To Remove or Revise Inspection Report Requirement

DAL noted that paragraph (h)(2) of the proposed AD specifies reporting requirements to report only positive findings of the first four inspections. DAL asked that the reporting requirement define what is to be reported, e.g., the fleet, the aircraft, or the spindle level.

DAL also requested that paragraph (h)(2)(ii) of the proposed AD, which requires reporting for inspections done before the effective date of the AD, be deleted. DAL stated that operators may not have the reporting information specified in the referenced service information since the findings may not have been tracked. DAL stated that the unsafe condition and corrective action were identified in TCCA AD CF-2021-22; and therefore, the reporting requirement is not necessary.

DAL also requested that paragraph (h)(2)(i) of the proposed AD, which requires reporting within 30 days, be deleted. DAL stated that showing the warranty claim itself is a positive finding; therefore, this reporting requirement would be redundant. DAL added that allowing 30 days to inspect, gather information from maintenance, and submit reporting is not feasible. DAL noted that 90 days is more practical for operators that operate a multitude of applicable aircraft.

The FAA infers that DAL is requesting that the FAA either remove the reporting requirement or, if not removed, revise certain aspects of the reporting requirement. The FAA acknowledges the commenter's requests and has determined that, for the reasons provided by the commenter, the reporting requirement is not necessary. Therefore, the FAA has removed paragraph (h)(2) and its sub-paragraphs from this AD. The FAA has also added a “No Reporting” paragraph to paragraph (i) of this AD to clarify reporting is not required by this AD.

Request for Clarification of Certain Compliance Terminology

DAL asked that the FAA clarify the tracking of MLG times versus spindle times because the affected part is the MLG spindle pin. DAL stated that paragraphs A. and B. of Part I, “Initial Inspection,” of TCCA AD CF-2021-22, start with “MLG having accumulated . . .” implying the time is on the MLG, not the spindle, would be tracked for the inspection threshold. DAL added that it tracks the MLG and the spindle and is taking the more accurate approach that the time on the spindle is the driver for the inspections. DAL noted that the time on the MLG and the spindles are currently the same since there have been no MLG or spindle removals since delivery of any aircraft up to this point. DAL stated that in the future if any spindles are replaced, the time tracking at the spindle level would ensure continued compliance with inspection intervals. Additionally, DAL noted that the repetitive inspection intervals should be tracked at the spindle level, not the MLG level.

The FAA agrees with the commenter that clarification of MLG times versus spindle times is necessary. Although the affected part in this AD is the MLG lower spindle pins, operators are not required to track the MLG and spindle pin times separately. The FAA concurs with the corrective actions section of TCCA AD CF-2021-22R1 that specifies operators must track the time on the MLG as the only metric relating to the spindle pin. Part 1 of TCCA AD CF-2021-22R1 indicates the compliance times vary depending on flight cycles on the MLG and the compliance time specified in paragraph B.1. of Part 1 states that the times are on the MLG; thus the MLG times are the metric that govern corrective actions. The FAA has determined that the compliance times specified in this AD will provide an acceptable level of safety for the identified unsafe condition. Therefore, the FAA has not changed this AD in regard to using spindle times.

Regarding the repetitive intervals, the compliance times are also on the MLG. Where Part II of TCCA AD CF-2021-22R1 specifies to repeat the inspection at intervals of 3,000 flight cycles or 24 months, whichever occurs first, those intervals are intended to be on the MLG, i.e., at intervals of 3,000 flight cycles on the MLG or 24 months on the MLG, whichever occurs first. The FAA confirmed with TCCA the compliance times are on the MLG.

Request for Clarification of a Certain Compliance Time

DAL asked for clarification of the terminology “entry into service” used as part of the compliance time specified in paragraph B.1. of Part I, “Initial Inspection,” of TCCA AD CF-2021-22. DAL stated that this terminology is unclear because entry into service is not defined. DAL also stated that it assumes a spare landing gear in storage is not considered “in service.”

The FAA agrees to clarify the terminology “entry into service” as identified in TCCA AD CF-2021-22 and TCCA AD CF-2021-22R1. To clarify, the term “entry into service” is when the MLG is first put into service on an aircraft as noted by the text “Whichever occurs first on the MLG” at the beginning of paragraph B.1. of Part I, “Initial Inspection,” of TCCA AD CF-2021-22 and TCCA AD CF-2021-22R1. The FAA also notes that the time on the MLG accrues regardless if the airplane is in storage or not. The calendar compliance time is within 48 months after the MLG's first entry into service on an airplane. The Part I compliance times are in relation to the MLG entry into service on an airplane. The accumulated time is not dependent on if the MLG is continually in use on an airplane that is in service. The FAA has added this clarification to paragraph (h)(2) of this AD.

Request for Clarification of Certain Actions

DAL stated that Airbus Canada Limited Partnership Service Bulletin BD500-321003, Issue 001, dated April 13, 2021, calls for an operational test after the spindle is reinstalled on the aircraft per maintenance program (AMP) Task BD500-A-J32-30-00-01AAA-320A-A, although in other sections it specifies a functional check. DAL noted that the spindle installation instructions in Task BD500-A-J32-11-17-01AAA-720A-A, call for a MLG functional test per Task BD500-AJ32-11-00-01AAA-340A-A. DAL asked for clarification of the correct terminology for the test to avoid confusion by operators.

The FAA agrees that the name of the test done after reinstallation of the MLG spindle should be consistent. Operational test is the correct term for the test of the landing gear extension and retraction done after reinstallation of the MLG spindle as specified in the Accomplishment Instructions of Airbus Canada Limited Partnership Service Bulletin BD500-321003, Issue 001, dated April 13, 2021. However, this term is not specified in this AD; therefore, the FAA has not changed this AD in this regard.

Request for Clarification of Certain Terminology

DAL asked that the referenced service information be revised to ensure consistent use of the terminology “new or refurbished” or “repaired or refurbished” language if Liebherr is providing refurbished spindles to customers. DAL noted that using the term “overhauled” should be allowed as well.

The FAA agrees that clarification is necessary. The correct terminology is new or refurbished spindles as specified in the Liebherr instructions that are part of the Accomplishment Instructions of Airbus Canada Limited Partnership Service Bulletin BD500-321003, Issue 001, dated April 13, 2021. The terminology “repaired” and “overhauled” are not used in the Liebherr instructions that are part of the Accomplishment Instructions of Airbus Canada Limited Partnership Service Bulletin BD500-321003, Issue 001, dated April 13, 2021. That terminology is not used in this AD; therefore, the FAA has not changed this AD in this regard.

Request To Define Visual Inspection

DAL asked that the definitions for “visually inspect” and “thorough visual inspection” specified in Airbus Canada Service Bulletin BD500-321003, Issue 001, dated April 13, 2021, be provided to avoid confusion with other standard inspection terminology used in the aviation industry. DAL added that another option is that the inspection requirements could be changed to industry standard wording.

The FAA agrees with the commenter for the reason provided. The correct term for the “visually inspect” steps is “General Visual Inspection.” A general visual inspection is a visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

The correct term for the “thorough visual inspection” steps is “Detailed Inspection.” A detailed inspection is an intensive examination of a specific item, installation, or assembly to detect damage, failure, or irregularity. Available lighting is normally supplemented with a direct source of good lighting at an intensity deemed appropriate. Inspection aids such as mirror, magnifying lenses, etc., may be necessary. Surface cleaning and elaborate procedures may be required.

The inspection type is not specified in requirements of this AD; however, the FAA has revised the description of the procedures for TCCA AD CF 2021-22R1 in the “Related Service Information Under 1 CFR part 51” paragraph of this final rule.

Request To Provide Guidance for Certain Procedures in the Referenced Service Information

DAL asked that the FAA provide guidance for the procedures specified in Airbus Canada Service Bulletin BD500-321003, Issue 001, dated April 13, 2021, and referenced in TCCA AD CF-2021-22, which should be revised to match the format using “Required for Compliance (RC)” designations. DAL stated that the procedures section of the Accomplishment Instructions of the referenced service information should define “RC” and what must be done to comply. DAL noted that the job set-up and close-up are recommended but can be deviated from, done as part of other actions, or done with accepted methods different from those given in the referenced service information, as long as the RC section can be done, and the aircraft put back into a serviceable condition. The referenced service information should use typical language when calling out procedures, and specify when a procedure must be done “in accordance with” versus “referring to” a procedure.

The FAA acknowledges the commenter's request; however, the FAA does not make changes to service information; such changes are implemented by the airplane manufacturer. The FAA agrees with the concept of minimizing AD requirements when appropriate. The FAA worked in conjunction with industry, under the Airworthiness Directive Implementation Aviation Rulemaking Committee (AD ARC), to enhance the AD system. One enhancement is a process for annotating which steps in the service information are “required for compliance” (RC) with an AD. Differentiating these steps from other tasks in the service information improves an owner's/operator's understanding of AD requirements and help provide consistent judgment in AD compliance.

In response to the AD Implementation ARC, the FAA released AC 20-176A, dated June 16, 2014 (drs.faa.gov/browse/excelExternalWindow/979DDD1479E1EC6F86257CFC0052D4E9.0001); and Order 8110.117A, dated June 18, 2014 (drs.faa.gov/browse/excelExternalWindow/D715CDFC08AC0DDC86257CFC00528297.0001), which include the concept of RC. The FAA implements this concept in ADs when we receive service information containing RC steps. While some design approval holders have implemented the RC concept, the implementation is voluntary. The FAA does not intend to develop or revise AD requirements to incorporate the RC concept if it is not included in the service information.

As always, if any operator prefers to address the unsafe condition by means other than those specified in the referenced service information, they may request approval for an alternative method of compliance and, if approved, may use it instead of the procedures specified in the service information.

The FAA has not changed this AD in this regard.

Acceptable Methods of Compliance

DAL asked that the FAA verify that using the installation procedures for the spindle in the component maintenance manual (CMM) or the AMP is an acceptable method of compliance for accomplishing the requirements in the proposed AD. DAL stated that the installation procedures in the referenced service information differ from the procedures in those manuals. DAL noted that using the procedures in the service information does not have the correct consumables, including the correct lockwire, called out and does not have the step to safety the nut to the spindle with a cable and ferrule. DAL also stated the service information does not have a step to safety wire the screw to the nut and does not have a step to seal the gap between the screw and nut.

The FAA agrees to clarify when using the CMM or AMP to accomplish the installation procedures specified in the service information referenced in TCCA AD CF-2021-22R1 is an acceptable method of compliance. For steps that specify actions and “refer to” the AMP or other documents, the “refer to” means that procedure or document may be followed to accomplish the action (e.g., the design approval holder's procedure or document may be used, but an FAA-accepted procedure could also be used).

However, for steps in the service information that specify to do actions “in accordance with” the CMM, the “in accordance with” means that CMM must be followed. An operator must request an alternative method of compliance, as specified in paragraph (k)(1) of this AD to deviate from required actions.

Regarding the DAL comment about the service information not containing the correct lockwire, Airbus Canada Limited Partnership Service Bulletin BD500-321003, Issue 002, dated May 13, 2022, now specifics the correct and more efficient equipment to be used. In addition, Airbus Canada Limited Partnership Service Bulletin BD500-321003, Issue 001, dated April 13, 2021, specifies that operators can use approved alternatives.

Regarding the DAL comment that the service information does not have a the step to safety the nut to the spindle with a cable and ferrule, a step to safety wire the screw to the nut and a step to seal the gap between the screw and nut, the FAA acknowledges those specific steps are not included in Airbus Canada Limited Partnership Service Bulletin BD500-321003, Issue 001, dated April 13, 2021. However, Airbus Canada Limited Partnership Service Bulletin BD500-321003, Issue 002, dated May 13, 2022, does include those steps. In order to address the unsafe condition, operators are only required to do the actions in accordance with the service information referenced in TCCA AD CF 2021-22R1, which refers to Airbus Canada Limited Partnership Service Bulletin BD500-321003, Issue 001, dated April 13, 2021. Airbus Canada Limited Partnership Service Bulletin BD500-321003, Issue 002, dated May 13, 2022, identifies more efficient equipment to be used, missing installation steps, and consumable materials. For operators that used Airbus Canada Limited Partnership Service Bulletin BD500-321003, Issue 001, dated April 13, 2021, no further actions are required as that service bulletin adequately addresses the identified unsafe condition. The FAA has added paragraph (h)(3) to this AD to identify Airbus Canada Limited Partnership Service Bulletin BD500-321003, Issue 002, dated May 13, 2022, as the appropriate service information because it contains the most up-to-date instructions. In addition, the FAA added paragraph (j)(2) of this AD to provide credit for using Airbus Canada Limited Partnership Service Bulletin BD500-321003, Issue 001, dated April 13, 2021.

Conclusion

The FAA reviewed the relevant data, considered the comments received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

TCCA AD CF-2021-22R1 specifies procedures for repetitive inspections (including general visual inspections, detailed inspection, liquid penetrant inspections, and nondestructive tests) of the left and right MLG lower spindle pins for corrosion, and applicable repair or replacement of the MLG lower spindle pin. This material is reasonably available because the interested parties have access to it through their normal course of business or by the means identified in the ADDRESSES section.

Interim Action

The FAA considers this AD interim action. If final action is later identified, the FAA might consider further rulemaking then.

Costs of Compliance

The FAA estimates that this AD affects 51 airplanes of U.S. registry. The FAA estimates the following costs to comply with this AD:

Estimated Costs for Required Actions
Labor cost | Parts cost | Cost per product | Cost on U.S. operators
Up to 25 work-hours × $85 per hour = $2,125 | $0 | Up to $2,125 | Up to $108,375 per inspection cycle.

The FAA estimates the following costs to do any necessary on-condition actions that will be required based on the results of any required actions. The FAA has no way of determining the number of aircraft that might need these on-condition actions:

Estimated Costs of On-Condition Actions
Labor cost | Parts cost | Cost per product
Up to 3 work-hours × $85 per hour = $255 | Up to $33,038 | Up to $33,293.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-19-09 Airbus Canada Limited Partnership (Type Certificate Previously Held by C Series Aircraft Limited Partnership (CSALP); Bombardier, Inc.): Amendment 39-22178; Docket No. FAA-2021-1076; Project Identifier MCAI-2021-00560-T.

(a) Effective Date

This airworthiness directive (AD) is effective October 27, 2022.

(b) Affected ADs

None.

(c) Applicability

This AD applies to all Airbus Canada Limited Partnership (type certificate previously held by C Series Aircraft Limited Partnership (CSALP); Bombardier, Inc.) Model BD-500-1A10 and BD-500-1A11 airplanes, certificated in any category.

(d) Subject

Air Transport Association (ATA) of America Code 32, Landing Gear.

(e) Unsafe Condition

This AD was prompted by reports of in-service findings of corrosion on the flange of the main landing gear (MLG) lower spindle pin. The FAA is issuing this AD to address corrosion and subsequent cracking of the MLG lower spindle pin, which could result in failure of the pin, and consequent collapse of the MLG.

(f) Compliance

Comply with this AD within the compliance times specified, unless already done.

(g) Requirements

Except as specified in paragraphs (h) and (i) of this AD: Comply with all required actions and compliance times specified in, and in accordance with, Transport Canada Civil Aviation (TCCA) AD CF-2021-22R1, issued May 13, 2022 (TCCA AD CF-2021-22R1).

(h) Exceptions to TCCA AD CF-2021-22R1

(1) Where TCCA AD CF-2021-22R1 refers to May 20, 2021, the effective date of TCCA AD CF-2021-18, this AD requires using the effective date of this AD.

(2) Where paragraph B.1. of Part I. “Initial Inspection,” of TCCA AD CF-2021-22R1 refers to a compliance time for the main landing gear (MLG), for this AD, the compliance time is before the accumulation of 5,500 total flight cycles on the MLG or within 48 months after the MLG's first entry into service on an airplane, whichever occurs first.

(3) Where TCCA AD CF-2021-22R1 refers to using certain service information, replace the text, “Airbus Canada SB BD500-321003 Issue 001, dated 13 April 2021,” with “Airbus Canada SB BD500-321003 Issue 002, dated May 13, 2022.”

(i) No Reporting Requirement

Although the service information referenced in TCCA AD CF-2021-22R1 specifies to submit certain information to the manufacturer, this AD does not include that requirement.

(j) Credit for Previous Actions

(1) This paragraph provides credit for the actions required by paragraph (g) of this AD, if those actions were performed before the effective date of this AD using TCCA AD CF-2021-22, issued July 5, 2021.

(2) This paragraph provides credit for the actions required by paragraph (g) of this AD, if those actions were performed before the effective date of this AD using Airbus Canada Limited Partnership Service Bulletin BD500-321003, Issue 001, dated April 13, 2021.

(k) Additional AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; phone: 516-228-7300; fax: 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or TCCA; or Airbus Canada Limited Partnership's TCCA Design Approval Organization (DAO). If approved by the DAO, the approval must include the DAO-authorized signature.

(l) Related Information

(1) For more information about this AD, contact Chirayu Gupta, Aerospace Engineer, Mechanical Systems and Administrative Services Section, FAA, New York ACO Branch, 1600 Stewart Avenue, Suite 410, Westbury, NY 11590; telephone 516-228-7300; fax 516-794-5531; email 9-avs-nyaco-cos@faa.gov.

(2) For Airbus Canada Limited Partnership service information identified in this AD that is not incorporated by reference, contact Airbus Canada Limited Partnership, 13100 Henri-Fabre Boulevard, Mirabel, Québec J7N 3C6, Canada; telephone 450-476-7676; email a220_crc@abc.airbus; internet a220world.airbus.com. You may view this service information at the FAA, Airworthiness Products Section, Operational Safety Branch, 2200 South 216th St., Des Moines, WA. For information on the availability of this material at the FAA, call 206-231-3195.

(3) TCCA AD CF-2021-22, issued July 5, 2021, which is identified in this AD and is not incorporated by reference, is available at the addresses specified in paragraphs (m)(3) and (4) of this AD.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada Civil Aviation (TCCA) AD CF-2021-22R1, issued May 13, 2022.

(ii) [Reserved]

(3) For TCCA AD CF-2021-22R1, contact TCCA, Transport Canada National Aircraft Certification, 159 Cleopatra Drive, Nepean, Ontario K1A 0N5, Canada; telephone 888-663-3639; email AD-CN@tc.gc.ca; internet tc.canada.ca/en/aviation.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on September 8, 2022.
Christina Underwood,
Acting Director, Compliance & Airworthiness Division, Aircraft Certification Service.

[FR Doc. 2022-20488 Filed 9-21-22; 8:45 am]

BILLING CODE 4910-13-P